ENVIRONMENTAL PROTECTION AGENCY

[FRL-7023-7]

Proposed CERCLA Administrative Cost Recovery Settlement; In Re: Kogut's Nursery Superfund Site, Suffield, CT

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Kogut's Nursery Superfund Site in Suffield, Connecticut, with the following settling party: Kogut Enterprises, Inc. The settlement requires the settling party to pay $165,000 to the Hazardous Substance Superfund. The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection with the Regional Docket Clerk, U.S. Environmental Protection Agency, Region I, One Congress Street, Suite 1100, Mailcode RCG, Boston, Massachusetts (U.S. EPA Docket No. CERCLA 01-2001-0055).

DATES: Comments must be submitted on or before September 5, 2001.

ADDRESSES: The proposed settlement is available for public inspection with the Regional Docket Clerk, One Congress Street, Boston, Massachusetts. A copy of the proposed settlement may be obtained from Ronald Gonzalez, U.S. Environmental Protection Agency, Region I, One Congress Street, Suite 1100, Mailcode SES, Boston, Massachusetts 02214, (617) 918-1786. Comments should reference the Kogut's Nursery Superfund Site, Suffield, Connecticut and EPA Docket No. 01-2001-0055 and should be addressed to the Docket Clerk, U.S. Environmental Protection Agency, Region I, One Congress Street, Suite 1100, Mailcode RCG, Boston, Massachusetts 02214.

FOR FURTHER INFORMATION CONTACT: Ronald Gonzalez, U.S. Environmental Protection Agency, Region I, One Congress Street, Suite 1100, Mailcode SES, Boston, Massachusetts 02214, (617) 918-1786.

Dated: July 16, 2001.
Larry Brill,
Acting Director, Office of Site Remediation and Restoration.

[FR Doc. 01-19565 Filed 8-3-01; 8:45 am]

BILLING CODE 6560-50-P